PRESIDIO TRUST

Letterman Complex, The Presidio of San Francisco, Notice of Availability To Review Programmatic Agreement

AGENCY: The Presidio Trust.

ACTION: Notice of availability to review the Programmatic Agreement among the Presidio Trust, the Advisory Council on Historic Preservation, the National Park Service and the California State Historic Preservation Officer Regarding Deconstruction, New Construction, and the Execution of Associated Leases at the Letterman Complex, Presidio of San Francisco, California.

SUMMARY: The Presidio Trust (Trust) announces the availability of the “Programmatic Agreement among the Presidio Trust, the Advisory Council on Historic Preservation, the National Park Service and the California State Historic Preservation Officer Regarding Deconstruction, New Construction, and the Execution of Associated Leases at the Letterman Complex, Presidio of San Francisco, California” (PA). The PA was prepared pursuant to the regulations (36 CFR part 800) implementing the National Historic Preservation Act of 1966, as amended, 16 USC 470 (NHPA). The Trust, the Advisory Council on Historic Preservation, the National Park Service and the California State Historic Preservation Officer are signatories to the PA. The National Trust for Historic Preservation and the National Parks and Conservation Association are concurring parties to the PA. The purpose of the PA is to establish a mechanism for the Trust to comply with its NHPA obligations in the construction, deconstruction and execution of associated leases at the Letterman location. Among other things, the PA provides for public planning sessions, review of planning and design guidelines to ensure conformity with the “Secretary of the Interior's Standards for the Treatment of Historic Properties with Guidelines for Preserving, Rehabilitating, Restoring, and Reconstructing Historic Buildings,” review of conceptual design documents, schematic design documents, and construction documents for conformity with the planning and design guidelines, construction monitoring to ensure conformity with the approved project documents, and a methodology for addressing archeological properties within the Letterman Complex.

Materials Available to the Public: The PA is available for viewing on the Internet by clicking on “Library” and then “Postings” at the following website: http://www.presidiotrust.gov. Additionally, copies are available for review at:

The Presidio Trust Library, 34 Graham Street, San Francisco, CA 94129, Phone: 415-561-5300.

William Penn Mott, Jr. Visitor Center (Presidio) (open 7 days), Montgomery Street, Main Post, San Francisco, CA 94129, Phone: 415-561-4323.

GGNRA Park Headquarters, Building 201, Fort Mason, San Francisco, CA 94123, Phone: 415-561-4720.

San Francisco Main Library, Government Information Center, Civic Center, San Francisco, CA 94102, Phone: 415-557-4500.

San Francisco Library, Presidio Branch, 3150 Sacramento Street, San Francisco, CA 94115, Phone: 415-292-2155.

For members of the public who do not have Internet access and for whom it would be burdensome to review the PA at any of the above locations, the Trust will consider requests to be sent a copy by mail or fax.

FOR FURTHER INFORMATION CONTACT: Cherilyn Widell, Compliance Officer, The Presidio Trust, 34 Graham Street, P.O. Box 29052, San Francisco, CA 94129-0052. Telephone: 415-561-5300.

Dated: March 3, 2000.
Karen A. Cook,
General Counsel.

[FR Doc. 00-5731 Filed 3-9-00; 8:45 am]

BILLING CODE 4310-4R-P